DEPARTMENT OF AGRICULTURE

Forest Service

Colville Resource Advisory Committee (RAC)

AGENCY: Forest Service, USDA.

ACTION: Notice of meeting.

SUMMARY: The Colville Resource Advisory Committee will meet on Thursday, June 30, 2005, at the Spokane Community College, Colville Campus, Dominion Room 985 South Elm Street, Colville, Washington. The meeting will begin at 9 a.m. and conclude at 4 p.m. Agenda items include: (1) Welcome and introduction of new members serving on the Colville Resource Advisory Committee. (2) Review and approve meeting notes from July 29, 2004, meeting (3) Fiscal Year 2006 Title II projects review and recommendation to the forest designated Federal official on Stevens, Ferry and Pend Oreille Counties applications; and (4) Public Forum.

FOR FURTHER INFORMATION CONTACT: Direct questions regarding this meeting to Rick Brazell, designated Federal official or to Diana Baxter, Public Affairs Officer, Colville National Forest, 765 S. Main, Colville, Washington 99114, (509) 684-7000.

Dated: June 13, 2005.
Rick Brazell,
Designated Federal Official.

[FR Doc. 05-12179 Filed 6-21-05; 8:45 am]

BILLING CODE 3410-11-M